DEPARTMENT OF HOMELAND SECURITY

U.S. Customs and Border Protection

U.S. Customs and Border Protection 2020 Trade Symposium

AGENCY: U.S. Customs and Border Protection (CBP), Department of Homeland Security (DHS).

ACTION: Notice of Trade Symposium.

SUMMARY: This document announces that CBP will convene the 2020 Trade Symposium in Anaheim, CA, on Tuesday, March 10, 2020, and Wednesday, March 11, 2020. The 2020 Trade Symposium will feature agency personnel, members of the trade community, and other government agencies in panel discussions on the agency's role in international trade initiatives and programs. Members of the international trade and transportation communities and other interested parties are encouraged to attend.

DATES: Tuesday, March 10, 2020 (opening remarks and general sessions, including the CBP Leadership Town Hall, 8:00 a.m.-5:00 p.m. PDT), and Wednesday, March 11, 2020 (breakout sessions, 8:00 a.m.-5:00 p.m. PDT).

ADDRESSES: The 2020 Trade Symposium will be held at the Anaheim Hilton located at 777 W Convention Way, Anaheim, CA 92802.

Registration: Registration will be open from 12:00 p.m. EST on January 9, 2020, through 4:00 p.m. EST on February 10, 2020. All registrations must be made online at the CBP website (http://www.cbp.gov/trade/stakeholder-engagement/trade-symposium) and will be confirmed with payment by credit card only. The registration fee is $210.00 per person. Interested parties are requested to register immediately, as space is limited. Members of the public who are registered to attend and later need to cancel, may do so by sending an email to tradeevents@cbp.dhs.gov. Please include your name and confirmation number with your cancellation request. Cancellation requests made after Friday, February 21, 2020, will not receive a refund.

FOR FURTHER INFORMATION CONTACT: Natalie Thompson, Office of Trade Relations (OTR) at (202) 344-1440, or at tradeevents@cbp.dhs.gov. The most current 2020 Trade Symposium information can be found at http://www.cbp.gov/trade/stakeholder-engagement/trade-symposium.

For information on facilities or services for individuals with disabilities or to request special assistance at the meeting, contact OTR at (202) 344-1440, or at tradeevents@cbp.dhs.gov as soon as possible.

SUPPLEMENTARY INFORMATION: This document announces that CBP will convene the 2020 Trade Symposium in Anaheim, CA, on Tuesday, March 10, 2020, and Wednesday, March 11, 2020. The format of the 2020 Trade Symposium will consist of general sessions on the first day and breakout sessions on the second day. The 2020 Trade Symposium will feature panels composed of agency personnel, members of the trade community and other government agencies. The panel discussions include United States-Mexico-Canada Agreement (USMCA) collaboration, interagency collaboration, innovation, forced labor, and e-Commerce. In addition, there will be a Binding Rulings Workshop, Partner Government Agency (PGA) speed chat sessions, and one-on-one sessions with personnel from the Centers of Excellence and Expertise. The 2020 Trade Symposium agenda can be found on the CBP website: http://www.cbp.gov/trade/stakeholder-engagement/trade-symposium.

Hotel accommodations have been made at the Anaheim Hilton located at 777 W Convention Way, Anaheim, CA 92802. Hotel room block reservation information can be found on the CBP website (http://www.cbp.gov/trade/stakeholder-engagement/trade-symposium).

Dated: January 15, 2020.
Valarie M. Neuhart,
Acting Executive Director, Office of Trade Relations.

[FR Doc. 2020-00878 Filed 1-17-20; 8:45 am]

BILLING CODE 9111-14-P